OFFICE OF PERSONNEL MANAGEMENT

5 CFR Part 250

RIN 3206-AK77

Personnel Management In Agencies—Employee Surveys

AGENCY: Office of Personnel Management.

ACTION: Proposed rule with request for comments.

SUMMARY: The Office of Personnel Management (OPM) is issuing proposed regulations concerning employee surveys required by the National Defense Authorization Act for Fiscal Year 2004. The regulations will add a new subpart which requires agencies to conduct an annual survey of their employees. In addition, the proposed regulations provide a list of questions that must appear in each agency's employee survey.

DATES: Comments must be received on or before October 17, 2005.

ADDRESSES: You may submit comments, identified by RIN number, by any of the following methods:

• Federal eRulemaking Portal: http://www.regulations.gov. Follow the instructions for submitting comments.

• E-mail: employ@opm.gov. Include “RIN 3206-AK77, Employee Surveys” in the subject line of the message.

• Fax: (202) 606-2329.

• Mail: Mark Doboga, Deputy Associate Director for Talent and Capacity Policy, U.S. Office of Personnel Management, Room 6551, 1900 E Street, NW., Washington, DC 20415-9700.

• Hand Delivery/Courier: U.S. Office of Personnel Management, Room 6551, 1900 E Street, NW., Washington, DC 20415.

FOR FURTHER INFORMATION CONTACT: For information on the survey questions, contact Nancy Kichak by phone on 202-606-0722, by FAX on 202-606-2922, or by e-mail at nancy.kichak@opm.gov. For all other information, contact Hakeem Basheerud-Deen by phone on 202-606-1434, by FAX on 202-606-2329, or by e-mail at hakeem.basheerud-deen@opm.gov. You may contact Ms. Kichak and Mr. Basheerud-Deen by TTY on 202-418-3134.

SUPPLEMENTARY INFORMATION:

Requiring Annual Employee Surveys

Section 1128 of the National Defense Authorization Act for Fiscal Year 2004 (Public Law 108-136, 5 U.S.C. 7101 note) requires each agency to conduct an annual survey of its employees “to assess—

(1) Leadership and management practices that contribute to agency performance; and

(2) Employee satisfaction with—

(A) Leadership policies and practices;

(B) Work environment;

(C) Rewards and recognition for professional accomplishment and personal contributions to achieving organizational mission;

(D) Opportunity for professional development and growth; and

(E) Opportunity to contribute to achieving organizational mission.

Prescribing Certain Survey Questions

The law requires OPM to “issue regulations prescribing survey questions that should appear on all agency surveys.” In addition, the law requires agencies to make the survey results available to the public and post the results on their Web sites, unless the head of the agency determines that doing so would jeopardize or negatively impact national security.

To select the survey questions to prescribe in regulation, OPM survey staff identified questions from the 2002 Federal Human Capital Survey (FHCS) that meet one of the assessment requirements in law. OPM survey staff subjected those questions to a regression analysis to identify the questions with the highest correlation to leadership and management practices or employee satisfaction.

As a second step, OPM survey staff independently listed major components of human capital management and verified that OPM had selected at least one question in each area. As a result, OPM added questions that address security and performance appraisal.

Based on these considerations, staff applied judgment to pare the list down to 24 questions. The recommended questions were presented at a Chief Human Capital Officers Council meeting, as well as a meeting with interested agency stakeholders and survey staff. Analysis of the comments received resulted in the addition of one question and the slight modification of several others. Finally, OPM survey staff convened a panel of senior experts to review the list of questions. The panel added three questions to improve coverage of human capital management systems and to ensure the 28 questions selected comply with the law.

The assessment requirements in law are restated below, with the questions that meet each requirement identified by number in brackets [].

(1) Leadership and management practices that contribute to agency performance [5, 6, 7, 11, 12, 13, 17, 20]; and

(2) Employee satisfaction with [27];

(A) Leadership policies and practices [18, 19, 23, 25];

(B) Work environment [1, 10, 21, 22];

(C) Rewards and recognition for professional accomplishment and personal contributions to achieving organizational mission[14, 15, 24, 28];

(D) Opportunity for professional development and growth [2, 16, 26]; and

(E) Opportunity to contribute to achieving organizational mission [3, 4, 8, 9].

OPM may vary the composition of the survey questions from time to time. The questions published in 5 CFR part 250, subpart C, will remain valid until changed by OPM through the regulatory process. Agencies should prepare and conduct surveys in accordance with professionally accepted survey standards to: ensure results are of high quality (e.g., the agency uses a communication strategy to publicize the survey and has determined an appropriate survey sample); the survey adequately assesses employee satisfaction; and the processing protects respondent confidentiality. The Government Accountability Office (GAO) publication entitled “Developing and Using Questionnaires” (October 1993, GAO/PEMD-10.1.7) provides guidance for agency use. OPM will provide additional guidance to agencies on this topic.

Agency Discretion

Agencies retain discretion to decide who shall administer their surveys, how the information will be collected, and how the results will be made available to the public and posted on their Web sites. Agencies may contract with other agencies, including OPM, or other sources to conduct surveys, but are not required to do so.

Agencies may add survey questions, change the order of the questions, and “reverse” the order of responses, except for the “Do Not Know” response option, which should remain last.

Using Agency Results

Survey results will be used to compare data over time and across agencies. Further, the survey results will support the requirement that OPM “design a set of systems, including appropriate metrics, for assessing the management of human capital by Federal agencies,” as set forth in 5 U.S.C. 1103(c). OPM is preparing proposed regulations revising 5 CFR 250 to provide this design and appropriate metrics.

Data Collection

Data must be collected by December 31 of each calendar year. To coordinate and encourage the timely availability of agency survey results, OPM is establishing a date of no later than 120 days after an agency completes survey administration each year for posting survey results on agency Web sites, based on surveys conducted during that calendar year. OPM expects to issue final regulations in early 2006. Consequently, each agency will need to conduct its employee survey by December 31 of each calendar year, beginning with calendar year 2006, and post results no later than 120 days after survey administration is complete, as noted in the regulation.

Relationship to Federal Human Capital Survey

In years when OPM administers the Federal Human Capital Survey (FHCS), which will always include the survey questions prescribed in 5 CFR part 250, subpart C, it is anticipated agencies will choose to use the FHCS to comply with the requirement to survey employees for that calendar year. OPM ultimately expects to administer the FHCS in the fall of even-numbered years and to offer services to support agencies surveying their employees with the subpart C questions in the fall of odd-numbered years. To achieve a systematic 12-month interval with survey administrations ultimately accomplished each fall, and given the fact that surveys using subpart C questions will not be conducted in calendar year 2005, OPM plans to address the annual employee survey requirement for 2006 by administering the next FHCS in late spring 2006. In 2007, agencies could administer the subpart C questions in the fall. In future even-numbered calendar years, the FHCS would be administered in the fall.

Regulatory Flexibility Act

I certify that this regulation will not have a significant economic impact on a substantial number of small entities because it affects only certain Federal employees.

Executive Order 12866, Regulatory Review

This rule has been reviewed by the Office of Management and Budget in accordance with Executive Order 12866.

List of Subjects in 5 CFR Part 250

Authority delegations (Government agencies), Government employees.

Office of Personnel Management.
Linda M. Springer,
Director.

Accordingly, OPM is proposing to amend 5 CFR part 250, as follows:

PART 250—PERSONNEL MANAGEMENT IN AGENCIES

1. The authority citation is revised to read as follows:

Authority: 5 U.S.C. 1101 note, 1103(a)(5), 1104, 1302, 3301, 3302, 7101 note; E.O. 13197, 66 FR 7853, 3 CFR 748 (2002); E.O. 10577, 12 FR 1259, 3 CFR, 1954-1958 Comp., p. 218.

2. Add subpart B to read as follows:

Subpart B—[Reserved]

3. Add subpart C to read as follows:

Subpart C—Employee Surveys
Sec.
250.301 Survey requirements.
250.302 Availability of results.

Subpart C—Employee Surveys

§ 250.301 Survey requirements.

(a) Each executive agency, as defined in 5 U.S.C. 105, must conduct an annual survey of its employees containing each question in this section.

(b) The 28 prescribed employee survey questions and response choices are listed in the following table:

Employee survey questions | Employee response choices
Personal Work Experiences
(1) The people I work with cooperate to get the job done | Strongly Agree, Agree, Neither Agree Nor Disagree, Disagree, or Strongly Disagree.
(2) I am given a real opportunity to improve my skills in my organization | Strongly Agree, Agree, Neither Agree Nor Disagree, Disagree, or Strongly Disagree.
(3) My work gives me a feeling of personal accomplishment | Strongly Agree, Agree, Neither Agree Nor Disagree, Disagree, or Strongly Disagree.
(4) I like the kind of work I do | Strongly Agree, Agree, Neither Agree Nor Disagree, Disagree, or Strongly Disagree.
(5) Overall, how good a job do you feel is being done by your immediate supervisor/team leader? | Very Good, Good, Fair, Poor, or Very Poor.
Recruitment, Development & Retention
(6) The workforce has the job-relevant knowledge and skills necessary to accomplish organizational goals | Strongly Agree, Agree, Neither Agree Nor Disagree, Disagree, Strongly Disagree, or Do Not Know.
(7) My work unit is able to recruit people with the right skills | Strongly Agree, Agree, Neither Agree Nor Disagree, Disagree, Strongly Disagree, or Do Not Know.
(8) I know how my work relates to the agency's goals and priorities | Strongly Agree, Agree, Neither Agree Nor Disagree, Disagree, Strongly Disagree, or Do Not Know.
(9) The work I do is important | Strongly Agree, Agree, Neither Agree Nor Disagree, Disagree, Strongly Disagree, or Do Not Know.
(10) Physical conditions (for example, noise level, temperature, lighting, cleanliness in the workplace) allow employees to perform their jobs well | Strongly Agree, Agree, Neither Agree Nor Disagree, Disagree, Strongly Disagree, or Do Not Know.
Performance Culture
(11) Promotions in my work unit are based on merit | Strongly Agree, Agree, Neither Agree Nor Disagree, Disagree, Strongly Disagree, or Do Not Know.
(12) In my work unit, steps are taken to deal with a poor performer who cannot or will not improve | Strongly Agree, Agree, Neither Agree Nor Disagree, Disagree, Strongly Disagree, or Do Not Know.
(13) Creativity and innovation are rewarded | Strongly Agree, Agree, Neither Agree Nor Disagree, Disagree, Strongly Disagree, or Do Not Know.
(14) In my work unit, differences in performance are recognized in a meaningful way | Strongly Agree, Agree, Neither Agree Nor Disagree, Disagree, Strongly Disagree, or Do Not Know.
(15) My performance appraisal is a fair reflection of my performance | Strongly Agree, Agree, Neither Agree Nor Disagree, Disagree, Strongly Disagree, or Do Not Know.
(16) Discussions with my supervisor/team leader about my performance are worthwhile | Strongly Agree, Agree, Neither Agree Nor Disagree, Disagree, Strongly Disagree, or Do Not Know.
(17) Managers/supervisors/team leaders work well with employees of different backgrounds | Strongly Agree, Agree, Neither Agree Nor Disagree, Disagree, Strongly Disagree, or Do Not Know.
Leadership
(18) I have a high level of respect for my organization's senior leaders | Strongly Agree, Agree, Neither Agree Nor Disagree, Disagree, Strongly Disagree, or Do Not Know.
(19) In my organization, leaders generate high levels of motivation and commitment in the workforce | Strongly Agree, Agree, Neither Agree Nor Disagree, Disagree, Strongly Disagree, or Do Not Know.
(20) Managers review and evaluate the organization's progress toward meeting its goals and objectives | Strongly Agree, Agree, Neither Agree Nor Disagree, Disagree, Strongly Disagree, or Do Not Know.
(21) Employees are protected from health and safety hazards on the job | Strongly Agree, Agree, Neither Agree Nor Disagree, Disagree, Strongly Disagree, or Do Not Know.
(22) My organization has prepared employees for potential safety and security threats | Strongly Agree, Agree, Neither Agree Nor Disagree, Disagree, Strongly Disagree, or Do Not Know.
Job Satisfaction
(23) How satisfied are you with your involvement in decisions that affect your work? | Very Satisfied, Satisfied, Neither Satisfied Nor Dissatisfied, Dissatisfied, or Very Dissatisfied.
(24) How satisfied are you with the recognition you receive for doing a good job? | Very Satisfied, Satisfied, Neither Satisfied Nor Dissatisfied, Dissatisfied, or Very Dissatisfied.
(25) How satisfied are you with the policies and practices of your senior leaders? | Very Satisfied, Satisfied, Neither Satisfied Nor Dissatisfied, Dissatisfied, or Very Dissatisfied.
(26) How satisfied are you with the training you receive for your present job? | Very Satisfied, Satisfied, Neither Satisfied Nor Dissatisfied, Dissatisfied, or Very Dissatisfied.
(27) Considering everything, how satisfied are you with your job? | Very Satisfied, Satisfied, Neither Satisfied Nor Dissatisfied, Dissatisfied, or Very Dissatisfied.
(28) Considering everything, how satisfied are you with your pay? | Very Satisfied, Satisfied, Neither Satisfied Nor Dissatisfied, Dissatisfied, or Very Dissatisfied.

§ 250.302 Availability of results.

(a) Each agency will make the results of its annual survey available to the public and post the results on its Web site, unless the agency head determines that doing so would jeopardize or negatively impact national security. The posted survey results will include the following:

(1) The agency's evaluation of its survey results;

(2) How the survey was conducted;

(3) Description of the employee sample, unless all employees are surveyed;

(4) The survey questions and response choices with the prescribed questions identified;

(5) The number of employees surveyed and number of survey respondents; and

(6) The number of respondents for each survey question and each response choice.

(b) Data must be collected by December 31 of each calendar year. Each agency must post the beginning and ending dates of its employees survey and either the survey results described in paragraph (a) or a statement noting the decision not to post no later than 120 days after the agency completes survey administration. OPM may extend this date in unusual circumstances.

(c) Each agency must submit its survey results to OPM no later than 120 days after the agency completes survey administration.

[FR Doc. 05-18374 Filed 9-15-05; 8:45 am]

BILLING CODE 6325-39-M